DEPARTMENT OF HEALTH AND HUMAN SERVICES

Administration for Community Living

Agency Information Collection Activities; Proposed Collection; Comment Request; Extension of a Currently Approved Information Collection; Funding Opportunity Announcement and Grant Application Instructions Template for ACL Discretionary Grant Programs

AGENCY: Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of Information, including each proposed extension of an existing collection of information, and to allow 60 days for public comment in response to the notice. This notice solicits comments on the information collection requirements relating to the standard Funding Opportunity Announcement and Grant Application Instructions template for ACL Discretionary Grant Programs.

DATES: Submit written or electronic comments on the collection of information by November 5, 2013.

ADDRESSES: Submit electronic comments on the collection of information to: lori.stalbaum@acl.hhs.gov.

Submit written comments on the collection of information to Lori Stalbaum, Administration for Community Living, Washington, DC 20201 or by fax to (202) 357-3466.

FOR FURTHER INFORMATION CONTACT: Lori Stalbaum at (202) 357-3452 or lori.stalbaum@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension, or update, of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

Proposed Collection of Information

ACL plans to submit to the Office of Management and Budget for approval Funding Opportunity Announcement and Grant Application Instructions Template for ACL Discretionary Grants Program. The Funding Opportunity Announcement and Application Instructions provide the requirements and instructions for the submission of an application for funding opportunities of the Administration for Community Living. The Administration for Community Living (ACL) funds discretionary grants under the Developmental Disabilities Assistance and Bill of Rights Act of 2000 (DD Act), which is administered by the Administration on Intellectual and Developmental Disabilities (AIDD) as well as the Older Americans Act, which is administered by the Administration on Aging (AoA). In addition, ACL is also responsible for administering other authorizing statutes relevant to older Americans and individuals with disabilities. Through its discretionary grant programs, the Administration for Community Living (ACL) supports projects for the purpose of developing and testing new knowledge and program innovations with the potential for maximizing the independence, well-being, and health of older adults, people with disabilities across the lifespan, and their families and caregivers. The Funding Opportunity Announcement (FOA) template may be found on the ACL Web site at www.acl.gov/Funding_Opportunities/Announcements/docs/ACL_PA_Template_FINAL_8-12-13.doc. ACL estimates the burden of this collection of information as follows: Frequency: Based on the budget authorization for that Fiscal Year, ACL publishes, on average, 15 to 20 FOAs annually. Respondents: States, public agencies, private nonprofit agencies, institutions of higher education, and organizations including tribal organizations. Estimated Number of Responses: 350 annually. Total Estimated Burden Hours: 16,800.

Dated: August 29, 2013.
Kathy Greenlee,
Administrator and Assistant Secretary for Aging.

[FR Doc. 2013-21654 Filed 9-5-13; 8:45 am]

BILLING CODE 4154-01-P